POSTAL SERVICE

Product Change—Standard Mail Negotiated Service Agreement

AGENCY: Postal Service.™

ACTION: Notice.

SUMMARY: The Postal Service gives notice of filing a request with the Postal Regulatory Commission to add a negotiated service agreement regarding First Class Mail and Standard Mail to the market-dominant product list within the Mail Classification Schedule.

DATES: Effective date: October 31, 2014.

FOR FURTHER INFORMATION CONTACT: Valerie J. Pelton, 202-268-3049.

SUPPLEMENTARY INFORMATION: The United States Postal Service® hereby gives notice that on October 27, 2014, pursuant to 39 U.S.C. 3642 and 3622(c)(10), it filed with the Postal Regulatory Commission a Notice of the United States Postal Service of Filing of Contract and Supporting Data and Request to Add, Discover Financial Services Negotiated Service Agreement to the Market-Dominant Product List. Documents are available at www.prc.gov, Docket Nos. MC2015-3, R2015-2.

Stanley F. Mires,
Attorney, Legal Policy & Legislative Advice.

[FR Doc. 2014-25967 Filed 10-30-14; 8:45 am]

BILLING CODE 7710-12-P